DEPARTMENT OF DEFENSE

Department of the Air Force

[Docket ID USAF-2009-0003]

Privacy Act of 1974; System of Records

AGENCY: Department of the Air Force, DoD.

ACTION: Notice to Amend a System of Records.

SUMMARY: The Department of Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: January 13, 2009.
Morgan E. Frazier,
Alternate OSD Federal Register Liaison Officer, Department of Defense.

F036 AF PC D

System Name:

Officer Performance Report (OPR)/Enlisted Performance Report (EPR) Appeal Case Files (June 11, 1997, 62 FR 31793).

Changes:

* * * * *

System Location:

Delete entry and replace with “Headquarters Air Force Personnel Center (HQ AFPC), Randolph Air Force Base, TX 78150-4709; Headquarters Air Reserve Personnel Center (HQ ARPC), Denver, CO 80280-5000; and Military Personnel Flights (MPFs). Official mailing addresses are published as an appendix to the Air Force's compilation of record systems notices.”

Categories of individuals covered by the system:

Delete entry and replace with “Present and former Officer and Enlisted personnel of the Regular Air Force, the Air Force Reserve and the Air National Guard who submit an appeal for correction of records.”

Category of records in system:

Delete entry and replace with “Individual's full name, Social Security Number (SSN), address, copy of applications, supporting documents, endorsements, and correspondence reflecting the board's decision on the case and other official records.”

Authority for maintenance of the system:

Delete entry and replace with “10 U.S.C. 8013, Secretary of the Air Force: Powers and duties; delegation by; implemented by Air Force Instruction 36-2401, Correcting Officer and Enlisted Evaluation Reports and E.O. 9397 (SSN).”

Purpose(s):

Delete entry and replace with “To answer individual inquires concerning evaluation appeals. At Air Force Personnel Center and Air Reserve Personnel Center levels, records are used as a basis for consideration in preparation of Air Staff advisory opinions on Officer Performance Report/Enlisted Performance Report (OPR/EPR) appeals.”

* * * * *

Storage:

Delete entry and replace with “Maintained in visible file binders/cabinets and electronic media storage.”

* * * * *

Retention and Disposal:

Delete entry and replace with “Air Force Personnel Center and Air Reserve Personnel Center case files are maintained for three calendar years from date of last action as indicated in the file, then destroyed. At Military Personnel Flights files are maintained for two calendar years from date of last action as indicated in the file and then destroyed. Destruction is by tearing into pieces, shredding, pulping, macerating, or burning.”

* * * * *

Notification Procedures:

Delete entry and replace with “Individuals seeking to determine whether this system of records contains information on themselves should address written requests to Air Force Personnel Center, Evaluations Programs Section, (HQ AFPC/DPSID), 550 C Street West, Suite 7, Randolph Air Force Base, TX 78150-4709, or to the Military Personnel Flight where the appeal was processed. Official mailing addresses are published as an appendix to the Air Force's compilation of record systems notices.

Written request should contain full name, Social Security Number (SSN) and complete mailing address with notary certified signature.”

* * * * *

Records access Procedures:

Delete entry and replace with “Individuals seeking to access records about themselves contained in this system should address written requests to the Air Force Personnel Center, Evaluations Programs Section, Air Force Personnel Center (HQ AFPC/DPSID), 550 C Street West, Randolph Air Force Base, TX 78150-4709, or to the Military Personnel Flight where the appeal was processed. Official mailing addresses are published as an appendix to the Air Force's compilation of record systems notices.

Written request should contain with full name, Social Security Number (SSN) and complete mailing address with notary certified signature.”

Contesting record procedures:

Delete entry and replace with “The Air Force rules for accessing records, and for contesting contents and appealing initial agency determinations are published in Air Force Instruction 33-332, Privacy Act Program; 32 CFR part 806b; or may be obtained from the system manager.”

Record Source Categories:

Delete entry and replace with “Appeal applications and supporting documentation, endorsements, official records and documents from other sources, and correspondence reflecting the appeal board's decision. Also, when applicable, Air Staff advisory opinions furnished to the Air Force Board for Corrections of Military Records under the provisions of Air Force Instruction 36-2603, Air Force Board for Correction of Military Records.”

* * * * *

F036 AF PC D

System name:

Officer Performance Report (OPR)/Enlisted Performance Report (EPR) Appeal Case Files.

System location:

Headquarters Air Force Personnel Center (HQ AFPC), Randolph Air Force Base, TX 78150-4709; Headquarters Air Reserve Personnel Center HQ ARPC), Denver, CO 80280-5000; and Military Personnel Flights (MPFs). Official mailing addresses are published as an appendix to the Air Force's compilation of record systems notices.

Categories of individuals covered by the system:

Present and former Officer and Enlisted personnel of the Regular Air Force, the Air Force Reserve and the Air National Guard who submit an appeal for correction of records.

Categories of records in the system:

Individual's full name, Social Security Number (SSN), address, copy of applications, supporting documents, endorsements, and correspondence reflecting the board's decision on the case and other official records.

Authority for maintenance of the system:

10 U.S.C. 8013, Secretary of the Air Force: powers and duties; delegation by; implemented by Air Force Instruction 36-2401, Correcting Officer and Enlisted Evaluation Reports and E.O. 9397 (SSN).

Purpose(s):

To answer individual inquires concerning evaluation appeals. At Air Force Personnel Center and Air Reserve Personnel Center levels, records are used as a basis for consideration in preparation of Air Staff advisory opinions on Officer Performance Report/Enlisted Performance Report (OPR/EPR) appeals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of record system notices apply to this system.

Policies and practices for storing, retrieving, accessing, retaining, and disposing of records in the system:

Storage:

Maintained in visible file binders/cabinets and electronic media storage.

Retrievability:

Retrieved by name.

Safeguards:

Records are accessed by custodian of the record system, and by person(s) responsible for servicing the record system in performance of their official duties who are properly screened and cleared for need-to-know. Records are stored in locked cabinets or rooms.

Retention and disposal:

Air Force Personnel Center and Air Reserve Personnel Center case files are maintained for three calendar years from date of last action as indicated in the file, then destroyed. At Military Personnel Flights files are maintained for two calendar years from date of last action as indicated in the file, and then destroyed. Destruction is by tearing into pieces, shredding, pulping, macerating, or burning.

System manager(s) and address:

Assistant Deputy Chief of Staff for Personnel, Randolph Air Force Base, TX 78150-6001.

Notification Procedures:

Individuals seeking to determine whether this system of records contains information on themselves should address written requests to Air Force Personnel Center, Evaluations Programs Section, (HQ AFPC/DPSID), 550 C Street West, Suite 7, Randolph Air Force Base, TX 78150-4709 or to the Military Personnel Flight where the appeal was processed. Official mailing addresses are published as an appendix to the Air Force's compilation of record systems notices.

Written request should contain full name, Social Security Number (SSN) and complete mailing address with notary certified signature.

Records access Procedures:

Individuals seeking to access records about themselves contained in this system should address written requests to the Air Force Personnel Center, Evaluations Programs Section, Air Force Personnel Center, (HQ AFPC/DPSID), 550 C Street West, Randolph Air Force Base, TX 78150-4709 or to the Military Personnel Flight where the appeal was processed. Official mailing addresses are published as an appendix to the Air Force's compilation of record systems notices.

Written request should contain with full name, Social Security Number (SSN) and complete mailing address with notary certified signature.

Contesting record procedures:

The Air Force rules for accessing records, and for contesting contents and appealing initial agency determinations are published in Air Force Instruction 33-332, Privacy Act Program; 32 CFR part 806b; or may be obtained from the system manager.

Record source categories:

Appeal applications and supporting documentation, endorsements, official records and documents from other sources, and correspondence reflecting the appeal board's decision. Also, when applicable, Air Staff advisory opinions furnished to the Air Force Board for Corrections of Military Records under the provisions of Air Force Instruction 36-2603, Air Force Board for Correction of Military Records.

Exemptions claimed for the system:

None.

[FR Doc. E9-1234 Filed 1-21-09; 8:45 am]

BILLING CODE 5001-06-P